GENERAL SERVICES ADMINISTRATION

[OMB Control No. 3090-0315; Docket No. 2025-0001; Sequence No. 20]

Submission for OMB Review; Ombudsman Inquiry/Request Instrument

AGENCY: Office of Acquisition Policy, Office of the Procurement Ombudsman (OPO), General Services Administration (GSA).

ACTION: Notice; request for comments.

SUMMARY: Under the provisions of the Paperwork Reduction Act, the Regulatory Secretariat Division will be submitting to the OMB a request to review and approve a reinstatement of an information collection requirement regarding OMB Control No: 3090-0315; Ombudsman Inquiry/Request Instrument.

DATES: Submit comments on or before March 30, 2026.

ADDRESSES: Written comments and recommendations for this information collection should be sent within 30 days of publication of this notice to www.reginfo.gov/public/do/PRAMain. Find this particular information collection by selecting “Currently under Review—Open for Public Comments” or by using the search function.

FOR FURTHER INFORMATION CONTACT: Frederick Landry, GSA Procurement Ombudsman & Industry Liaison, at telephone 202-501-4755.

SUPPLEMENTARY INFORMATION:

A. Purpose

The online intake Instrument on the GSA Ombudsman's web page receives inquiries from vendors who are currently doing business with or interested in doing business with GSA. The inquiries are collected by the GSA Ombudsman and routed to the appropriate office for resolution and/or implementation in the case of recommendations for process or program improvements. Reporting of the data collected helps highlight thematic issues that vendors encounter with GSA acquisition programs, processes, or policies, and identify areas where training is needed. The information collected also assists in identifying and analyzing patterns and trends to help improve efficiencies and lead to improvements in current practices.

B. Annual Reporting Burden

Maximum Potential Respondents: 118.

Responses per Respondent: 1.

Total Maximum Potential Annual Responses: 118.

Hours per Response: .25.

Total Burden Hours: 29.5.

C. Public Comments

A 60-day notice was published in the Federal Register at 90 FR 60104. No public comments were received.

Obtaining Copies of Proposals: Requesters may obtain a copy of the information collection documents from the GSA Regulatory Secretariat Division, by calling 202-501-4755 or emailing GSARegSec@gsa.gov. Please cite “Information Collection 3090-0315, Ombudsman Inquiry/Request Instrument”, in all correspondence.

Patrick Dale,
Team Lead, Regulatory Secretariat Division, General Services Administration.

[FR Doc. 2026-03989 Filed 2-26-26; 8:45 am]

BILLING CODE 6820-61-P